DEPARTMENT OF COMMERCE

International Trade Administration

Request for Comments on Priorities for the Transatlantic Innovation Dialogue

AGENCY: International Trade Administration, Department of Commerce.

ACTION: Notice and request for comments.

SUMMARY: The International Trade Administration is seeking comments on priorities for the Transatlantic Innovation Dialogue from any interested party, including industry, consumer, labor and environmental groups, trade associations, professional organizations/societies, academia, and Federal, state, and local governments. Comments will be used to identify and select projects for cooperation on innovation policy between the United States government and the European Commission.

DATES: Written comments must be submitted on or before February 5, 2010.

ADDRESSES: You may submit comments by any of the following methods:

E-mail: transatlanticinnovation@trade.gov.

Fax: (202) 482-2897 (Attn.: Tshanda Kalombo).

Mail or Hand Delivery/Courier: Tshanda Kalombo, U.S. Department of Commerce, Office of the European Union, Room 3513, 14th Street & Pennsylvania Avenue, NW., Washington, DC 20230.

All of the comments received will be posted on the following Web site: http://www.state.gov/p/eur/rt/eu/tec/.

FOR FURTHER INFORMATION CONTACT: For questions on the submission of comments, please contact Tshanda Kalombo by phone at (202) 482-2561 or by e-mail at tshanda.kalombo@trade.gov.

SUPPLEMENTARY INFORMATION: Background Information: The Transatlantic Innovation Dialogue is a senior-level government-to-government forum that was established on October 27, 2009 by U.S. and European Union (EU) leaders in the Transatlantic Economic Council (TEC). The objective of the Innovation Dialogue is to bolster U.S. and EU efforts to spur growth, productivity, and entrepreneurial activity by sharing best policy practices and identifying steps that will improve the policy environment for innovative activities across the Atlantic. By innovation, we mean the design, invention, development and/or implementation of new or altered products, services, processes, systems, organizational structures, or business models for the purpose of creating new value for the economy and society.

The TEC created the Transatlantic Innovation Dialogue to elevate and improve the effectiveness of existing and new areas of cooperation in order to achieve tangible results in job creation, higher competitiveness and economic growth, and solutions for addressing societal challenges. Cooperation on improving innovation and technological development ecosystems is expected to benefit companies, workers, consumers, and governments on both sides of the Atlantic by spurring economic growth and transatlantic trade and investment.

The Transatlantic Innovation Dialogue will be co-led by senior-level officials in the U.S. Department of Commerce and in the European Commission's Directorate-General for Industry and Entrepreneurship, who will oversee its activities and report to interested stakeholders and to the TEC leaders.

The U.S. government and European Commission will collaborate with stakeholders to identify, select, and develop work plans for priority areas of cooperation. The work of the Dialogue will complement and coordinate with existing, innovation-related, bilateral fora including: U.S.-EU Intellectual Property Rights Working Group, the U.S. and EU Energy Council, the U.S.-EU Science and Technology Agreement, the U.S. Department of Commerce-European Commission Standards Dialogue, the U.S.-EU High Level Regulatory Cooperation Forum and the U.S.-EU Information Society Dialogue.

To assist in identifying topics for innovation cooperation between the U.S. government and the European Commission, the U.S. Department of Commerce is requesting comments from any interested stakeholder on priorities that should be the focus of the Transatlantic Innovation Dialogue. In submitting comments, stakeholders should consider the following questions:

• What specific technology areas and industry sectors should the U.S. and EU focus on?

• What government policies that enable innovation should the U.S. and EU address?

• For the topics identified, what form should cooperation take (e.g. exchange of information, knowledge transfer)?

• What should the short and long term objectives be for each identified project?

• What specific outcomes should the U.S. and EU try to achieve by 2011?

After receiving and reviewing submissions to this notice, the U.S. Department of Commerce will hold a public meeting to discuss the prioritization of potential areas of cooperation under the Dialogue. After interagency consultations, the U.S. Department of Commerce will work with the European Commission on the agenda for Dialogue and submit work plans for the agreed priorities to the TEC for its 2010 meeting.

Dated: December 28, 2009.
David De Falco,
Director, Office of the European Union, Market Access and Compliance, International Trade Administration, U.S. Department of Commerce.

[FR Doc. E9-31085 Filed 12-30-09; 8:45 am]

BILLING CODE 3510-DA-P